ENVIRONMENTAL PROTECTION AGENCY

[ER-FRL-9015-5]

Environmental Impact Statements; Notice of Availability

Responsible Agency: Office of Federal Activities, General Information (202) 564-7146 or http://www.epa.gov/compliance/nepa/.

Weekly receipt of Environmental Impact Statements.

Filed 06/09/2014 Through 06/13/2014.

Pursuant to 40 CFR 1506.9.

Notice: Section 309(a) of the Clean Air Act requires that EPA make public its comments on EISs issued by other Federal agencies. EPA's comment letters on EISs are available at: http://www.epa.gov/compliance/nepa/eisdata.html.

EIS No. 20140171, Draft EIS,WAPA, NE, Interconnection of the Grande Prairie Wind Farm, Comment Period Ends: 08/04/2014, Contact: Rod O'Sullivan 720-962-7260.

EIS No. 20140172, Draft EIS, USACE, OR, Double-crested Cormorant Management Plan to Reduce Predation of Juvenile Salmonids in the Columbia River Estuary, Comment Period Ends: 08/04/2014, Contact: Sondra Ruckwardt 503-808-4510.

EIS No. 20140173, Final EIS, USFS, OR, Wolf Fuels and Vegetation Management Project, Review Period Ends: 07/28/2014, Contact: Jeff Marszal 541-416-6436.

EIS No. 20140174, Final EIS, USAF, NH, Second Main Operating Base KC-46A Beddown at Alternative Air National Guard Installations, Review Period Ends: 07/21/2014, Contact: Kevin Marek 240-612-8855.

EIS No. 20140175, Draft EIS, FERC, TX, Corpus Christi LNG Project, Comment Period Ends: 08/04/2014, Contact: Kandi Barakat 202-502-6365.

EIS No. 20140176, Final EIS, USACE, LA, Calcasieu Lock, Louisiana Feasibility Study, Review Period Ends: 07/21/2014, Contact: Timothy K. George 314-331-8459.

Amended Notice:

EIS No. 20140167, Final EIS, USACE, HI, Honolulu Seawater Air Conditioning Project, Review Period Ends: 07/28/2014, Contact: Ryan Winn 808-835-4309.

Revision to the FR Notice Published 6/13/2014; Correct Review Period from 7/14/2014 to 07/28/214.

Dated: June 17, 2014.
Cliff Rader,
Director, NEPA Compliance Division, Office of Federal Activities.

[FR Doc. 2014-14480 Filed 6-19-14; 8:45 am]

BILLING CODE 6560-50-P